DEPARTMENT OF DEFENSE

Office of the Secretary

Veterans' Advisory Board on Dose Reconstruction; Meeting

AGENCY: Defense Threat Reduction Agency, DoD.

ACTION: Advisory Board meeting notice.

SUMMARY: Under the provisions of the Federal Advisory Committee Act of 1972 (5 U.S.C., Appendix, as amended), the Sunshine in the Government Act of 1976 (5 U.S.C. 552b, as amended), the Defense Threat Reduction Agency (DTRA), and the Department of Veterans Affairs (VA) announce the following advisory board meeting of the Veterans' Advisory Board on Dose Reconstruction (VBDR).

DATES: Friday, March 11, 2011, 8 a.m. to 12:15 p.m. and from 1:15 p.m. to 5 p.m. The public is invited to attend. A public comment session is scheduled from 10:15 a.m. to 10:45 a.m.

Location: Hilton Arlington Hotel, 950 North Stafford Street, Arlington, VA 22203.

FOR FURTHER INFORMATION CONTACT: The Veterans' Advisory Board on Dose Reconstruction Toll Free at 1-866-657-VBDR (8237). Additional information may be found at http://vbdr.org.

SUPPLEMENTARY INFORMATION: Purpose of Meeting: To obtain, review, and evaluate information related to the Board's mission to provide guidance and oversight of the dose reconstruction and claims compensation programs for veterans of U.S.-sponsored atmospheric nuclear weapons tests from 1945-1962; veterans of the 1945-1946 occupation of Hiroshima and Nagasaki, Japan; and veterans who were prisoners of war in those regions at the conclusion of World War II. In addition, the advisory board will assist the VA and DTRA in communicating with the veterans.

Meeting Agenda: The meeting will open with an introduction of the Board. After introductions, the remainder of the morning will include the following briefings: “Review of Atomic Veterans Epidemiology Study” by Dr. John Boice; “Review of Atomic Veterans Demographic Study” by Dr. John Lathrop; “Quality Review of Radiation Cases at the Jackson VARO”, by VA STAR Representative; “Update on the Nuclear Test Personnel Review (NTPR) Dose Reconstruction Program”, by Dr. Paul Blake; and “Update on the VA Radiation Claims Compensation Program for Veterans”, by Mr. Brad Flohr. The morning session includes one half-hour open public comment session. The afternoon session will begin with a presentation on the VA/DTRA/VBDR Atomic Veterans Communications Plan. Next, the four subcommittees established during the inaugural VBDR session will report on their activities since March 2010. These subcommittees consist of the following: Subcommittee on DTRA Dose Reconstruction Procedures; the Subcommittee on VA Claims Adjudication Procedures; the Subcommittee on Quality Management and VA Process Integration with DTRA Nuclear Test Personnel Review Program; and the Subcommittee on Communication and Outreach. The remainder of the meeting will be devoted to a discussion of the future of the VBDR.

Meeting Accessibility: Pursuant to 5 U.S.C. 552b, as amended, and 41 CFR 102-3.140 through 102-3.165, and the availability of space, this meeting is open to the public. Seating is limited by the size of the meeting room. All persons must sign in legibly at the registration desk.

Written Statements: Pursuant to 41 CFR 102-3.105(j) and 102-3.140(c), interested persons may submit a written statement for consideration by the Veterans' Advisory Board on Dose Reconstruction; statements maybe on the VBDR's mission or in response to the March 11, 2011 meeting agenda. Supporting documentation may also be included as needed to establish the appropriate historical context and to provide any necessary background information.

Individuals submitting a written statement may submit their statement to the Board at 801 N. Quincy Street, Suite 600, Arlington, VA 22203, at any time. However, if a written statement is not received at least 10 calendar days prior to the meeting, which is the subject of this notice, then it may not be provided to or considered by the Veterans' Advisory Board on Dose Reconstruction until its next open meeting.

The Designated Federal Officer shall ensure that copies of all timely submissions are provided to the members for their consideration. The Chairperson may choose to invite the submitter of the comments to orally present his or her statements during the Public Comment session of this meeting or at a future meeting.

Public Comments: The March 11, 2011 meeting is open to the public. One, approximately, half-hour session will be reserved for public comments on issues related to the tasks of the Veterans' Advisory Board on Dose Reconstruction. Speaking time will be assigned on a first-come, first-served basis. The amount of time per speaker will be determined by the number of requests received, but is nominally five minutes each. All persons who wish to speak at the meeting must sign in legibly at the registration desk. Speakers who wish to expand on their oral statements are invited to submit a written statement to the Veterans' Advisory Board on Dose Reconstruction at 801 N. Quincy Street, Suite 600, Arlington, VA 22203.

Dated: February 3, 2011.
Morgan F. Park,
Alternate OSD Federal Register Liaison Officer, Department of Defense.

[FR Doc. 2011-2686 Filed 2-7-11; 8:45 am]

BILLING CODE 5001-06-P